DEPARTMENT OF TRANSPORTATION

Federal Aviation Administration

14 CFR Part 39

[Docket No. FAA-2019-0604; Product Identifier 2019-NM-072-AD; Amendment 39-19812; AD 2019-23-18]

RIN 2120-AA64

Airworthiness Directives; Dassault Aviation Airplanes

AGENCY: Federal Aviation Administration (FAA), Department of Transportation (DOT).

ACTION: Final rule.

SUMMARY: The FAA is adopting a new airworthiness directive (AD) for all Dassault Aviation Model MYSTERE FALCON 50, MYSTERE FALCON 900, and FALCON 900EX airplanes; and Model FALCON 2000 and FALCON 2000EX airplanes. This AD was prompted by a report that the Dassault maintenance planning document (MPD) of the related Dassault aircraft maintenance manual (AMM) states that the “combined service/storage life” of the fire extinguisher percussion cartridges is longer than it should be, and could have a safety impact in case of fire. This AD requires replacing the fire extinguisher percussion cartridges with serviceable parts. The FAA is issuing this AD to address the unsafe condition on these products.

DATES: This AD is effective January 17, 2020.

ADDRESSES: For service information identified in this final rule, contact Dassault Falcon Jet Corporation, Teterboro Airport, P.O. Box 2000, South Hackensack, NJ 07606; telephone 201-440-6700; internet http://www.dassaultfalcon.com. You may view this service information at the FAA, Transport Standards Branch, 2200 South 216th St., Des Moines, WA. For information on the availability of this material at the FAA, call 206-231-3195. It is also available on the internet at https://www.regulations.gov by searching for and locating Docket No. FAA-2019-0604.

Examining the AD Docket

You may examine the AD docket on the internet at https://www.regulations.gov by searching for and locating Docket No. FAA-2019-0604; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Tom Rodriguez, Aerospace Engineer, International Section, Transport Standards Branch, FAA, 2200 South 216th St., Des Moines, WA 98198; telephone and fax 206-231-3226.

SUPPLEMENTARY INFORMATION:

Discussion

The European Union Aviation Safety Agency (EASA), which is the Technical Agent for the Member States of the European Union, has issued EASA AD 2019-0084, dated April 17, 2019 (“EASA AD 2019-0084”) (also referred to as the Mandatory Continuing Airworthiness Information, or “the MCAI”), to correct an unsafe condition for all Dassault Aviation Model MYSTERE FALCON 50, MYSTERE FALCON 900, and FALCON 900EX airplanes; and Model FALCON 2000 and FALCON 2000EX airplanes. You may examine the MCAI in the AD docket on the internet at https://www.regulations.gov by searching for and locating Docket No. FAA-2019-0604.

The FAA issued a notice of proposed rulemaking (NPRM) to amend 14 CFR part 39 by adding an AD that would apply to all Dassault Aviation Model MYSTERE FALCON 50, MYSTERE FALCON 900, and FALCON 900EX airplanes; and Model FALCON 2000 and FALCON 2000EX airplanes. The NPRM published in the Federal Register on August 13, 2019 (84 FR 39991). The NPRM was prompted by a report that the Dassault MPD of the related Dassault AMM states that the “combined service/storage life” of the fire extinguisher percussion cartridges is longer than it should be, and could have a safety impact in case of fire. The NPRM proposed to require replacing the fire extinguisher percussion cartridges with serviceable parts. The FAA is issuing this AD to address the total life limit of the fire extinguisher percussion cartridges, which if not corrected, could prevent extinguishing a fire and possibly result in damage to the airplane and injury to occupants. See the MCAI for additional background information.

Comments

The FAA gave the public the opportunity to participate in developing this final rule. The following presents the comment received on the NPRM and the FAA's response to each comment.

Request To Add Certain Language to the Proposed AD

NetJets, Inc., requested that certain language be added to the proposed AD that allows using a logbook entry to determine the manufacturer date of the fire extinguisher percussion cartridge.

The FAA agrees to clarify. The FAA agrees that a review of the logbook entry is one acceptable method to verify the manufacturer date of the fire extinguisher percussion cartridge, provided that the manufacture date can be conclusively determined from that review. However, the FAA notes that this AD does not require using a specific method to determine the manufacturer date of the fire extinguisher percussion cartridge. Therefore, the FAA has not revised this AD in this regard.

Change to Figure 1 to Paragraph (i) of This AD

In the proposed AD, the FAA inadvertently omitted one AMM task in figure 1 to paragraph (i) of this AD, which specifies AMM tasks that provide guidance for the replacement required by paragraph (h) of this AD. The FAA has revised figure 1 to paragraph (i) of this AD to include the omitted AMM task for the auxiliary power unit (APU) on Model FALCON 2000 and FALCON 2000EX airplanes.

Conclusion

The FAA reviewed the relevant data, considered the comment received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Costs of Compliance

The FAA estimates that this AD affects 1,013 airplanes of U.S. registry. The FAA estimates the following costs to comply with this AD:

Estimated Costs for Required Actions
Labor cost | Parts cost | Cost per product | Cost on U.S. operators
6 work-hours × $85 per hour = $510 | $1,145 | $1,655 | $1,676,515

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-23-18 Dassault Aviation: Amendment 39-19812; Docket No. FAA-2019-0604; Product Identifier 2019-NM-072-AD.

(a) Effective Date

This AD is effective January 17, 2020.

(b) Affected ADs

None.

(c) Applicability

This AD applies to all Dassault Aviation Model MYSTERE FALCON 50, MYSTERE FALCON 900, and FALCON 900EX airplanes; and Model FALCON 2000 and FALCON 2000EX airplanes; certificated in any category.

(d) Subject

Air Transport Association (ATA) of America Code 26, Fire protection.

(e) Reason

This AD was prompted by a report that the Dassault maintenance planning document (MPD) of the related Dassault aircraft maintenance manual (AMM) mentions that the “combined service/storage life” of the fire extinguisher percussion cartridges is 12 years, whereas it should be 10 years, and could have a safety impact in case of fire. The FAA is issuing this AD to address the total life limit of the fire extinguisher percussion cartridges, which if not corrected, could prevent extinguishing a fire and possibly result in damage to the airplane and injury to occupants.

(f) Compliance

Comply with this AD within the compliance times specified, unless already done.

(g) Definitions

For the purpose of this AD, the definitions specified in paragraphs (g)(1) through (4) apply to this AD.

(1) An affected part is a fire extinguisher percussion cartridge having part number (P/N) 862700-00 or P/N 862710-00.

(2) Total life is time since the manufacturing date, which includes both the time installed on an airplane and time in storage.

(3) A serviceable part is an affected part that has not exceeded 10 years of total life, or a fire extinguisher percussion cartridge that is not an affected part.

(4) Group 1 airplanes are those that have an affected part installed. Group 2 airplanes are those that do not have an affected part installed.

(h) Total Life Limit Implementation

For Group 1 airplanes, except as specified in paragraph (j) of this AD: Before a fire extinguisher percussion cartridge exceeds 10 years of total life, remove the affected part and replace it with a serviceable part in accordance with the procedures specified in paragraph (l)(2) of this AD.

(i) Guidance for Replacement Required by Paragraph (h) of This AD

Guidance for the replacement required by paragraph (h) of this AD can be found in the applicable Dassault AMM task specified in figure 1 to paragraph (i) of this AD.

Figure 1 to Paragraph (i)—AMM Tasks
Airplane model | Location | AMM task
MYSTERE FALCON 50 airplanes | Engine 1 first shoot | 26-20-13-960-801-01
| Engine 2 first shoot | 26-20-13-960-801-02
| Engine 3 first shoot | 26-20-13-960-801-03
| Engine 1 second shoot | 26-20-13-960-801-04
| Engine 2 second shoot | 26-20-13-960-801-05
| Engine 3 second shoot | 26-20-13-960-801-06
FALCON 2000 and FALCON 2000EX airplanes | Engine 1 first shoot | 26-20-13-960-801-01
| Engine 1 second shoot | 26-20-13-960-801-02
| Engine 2 second shoot | 26-20-13-960-801-03
| Engine 2 first shoot | 26-20-13-960-801-04
| Auxiliary Power Unit (APU) | 26-20-13-960-801-05
MYSTERE FALCON 900 and FALCON 900EX airplanes | Engine 1 first shoot | 26-20-13-960-801-01
| Engine 3 first shoot | 26-20-13-960-801-02
| Engine 2 second shoot left-hand side | 26-20-13-960-801-03
| Engine 2 second shoot right-hand side | 26-20-13-960-801-04
| Engine 1 second shoot | 26-20-13-960-801-05
| Engine 3 second shoot | 26-20-13-960-801-06
| Engine 2 first shoot left-hand side | 26-20-13-960-801-07
| Engine 2 first shoot right-hand side | 26-20-13-960-801-08
| APU | 26-20-13-960-801-09
| Baggage compartment | 26-20-13-960-801-10
| Mechanic's Servicing Compartment | 26-20-13-960-801-11

(j) Grace Period for Initial Replacement

For Group 1 airplanes: For a fire extinguisher percussion cartridge that, on the effective date of this AD, has a total life of 9 years 6 months or more, the replacement required by paragraph (h) of this AD can be deferred up to 6 months after the effective date of this AD.

(k) Parts Installation Limitations

For Group 1 and Group 2 airplanes: As of the effective date of this AD, no person may install, on any airplane, a fire extinguisher percussion cartridge, unless the part is a serviceable part as specified in this AD, and that, following installation, the affected part is replaced as required by paragraph (h) of this AD.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Union Aviation Safety Agency (EASA); or Dassault Aviation's EASA Design Organization Approval (DOA). If approved by the DOA, the approval must include the DOA-authorized signature.

(m) Related Information

(1) Refer to Mandatory Continuing Airworthiness Information (MCAI) EASA AD 2019-0084, dated April 17, 2019, for related information. This MCAI may be found in the AD docket on the internet at https://www.regulations.gov by searching for and locating Docket No. FAA-2019-0604.

(2) For more information about this AD, contact Tom Rodriguez, Aerospace Engineer, International Section, Transport Standards Branch, FAA, 2200 South 216th St., Des Moines, WA 98198; telephone and fax 206-231-3226.

(3) For service information identified in this AD that is not incorporated by reference, contact Dassault Falcon Jet Corporation, Teterboro Airport, P.O. Box 2000, South Hackensack, NJ 07606; telephone 201-440-6700; internet http://www.dassaultfalcon.com. You may view this service information at the FAA, Transport Standards Branch, 2200 South 216th St., Des Moines, WA. For information on the availability of this material at the FAA, call 206-231-3195.

(n) Material Incorporated by Reference

None.

Issued in Des Moines, Washington, on November 27, 2019.
Michael Kaszycki,
Acting Director, System Oversight Division, Aircraft Certification Service.

[FR Doc. 2019-26676 Filed 12-12-19; 8:45 am]

BILLING CODE 4910-13-P